NATIONAL AERONAUTICS AND SPACE ADMINISTRATION

National Aeronautics and Space Administration (NASA)

[Notice: (02 -089)]

OMB Review Under the Paperwork Reduction Act

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). NASA will utilize the information collected to determine whether the Agency's recruitment efforts are reaching all segments of the country.

DATES: Comments on this proposal should be received within 30 calendar days from the date of this publication.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: NASA Voluntary On-Line Job Applicant Racial and Ethnic Data Collection.

OMB Number: 2700-.

Type of review: New collection.

Need and Uses: Information is used by NASA personnel staff to determine if recruitment efforts are reaching all segments of the country, as required by Federal law.

Affected Public: Individuals or households; Federal government.

Number of Respondents: 40,000.

Responses Per Respondent: 1.

Annual Responses: 40,000.

Hours Per Request: 5 min/request.

Annual Burden Hours: 3,334.

Frequency of Report: On occasion.

David B. Nelson,
Deputy chief Information Officer, Office of the Administrator.

[FR Doc. 02-18141 Filed 7-17-02; 8:45 am]

BILLING CODE 7510-01-P